DEPARTMENT OF LABOR

Employment and Training Administration

[TA-W-62,525]

Magna Donnelly Engineered Glass, Holland, MI; Notice of Termination of Investigation

Pursuant to Section 221 of the Trade Act of 1974, as amended, an investigation was initiated on December 3, 2007 in response to a worker petition filed by a company official on behalf of workers at Magna Donnelly Engineered Glass, Holland, Michigan.

The petitioner has requested that the petition be withdrawn. Consequently, the investigation has been terminated.

Signed at Washington, DC, this 17th day of January 2008.
Richard Church,
Certifying Officer, Division of Trade Adjustment Assistance.

[FR Doc. E8-1287 Filed 1-24-08; 8:45 am]

BILLING CODE 4510-FN-P